DEPARTMENT OF THE INTERIOR

Bureau of Land Management

[16X L1109AF LLUT980300-L13100000.XZ0000-24-1A]

Utah Resource Advisory Council Meeting

AGENCY: Bureau of Land Management, Interior.

ACTION: Notice of meeting.

SUMMARY: In accordance with the Federal Land Policy and Management Act, the Bureau of Land Management's (BLM) Utah Resource Advisory Council (RAC) will host a meeting.

DATES: On Oct. 17, 2016, the RAC will take a field tour of the San Rafael Desert Master Leasing Plan project area from 9:00 a.m. to 5:00 p.m. Attendance is optional. On Oct. 18, the RAC will meet from 8:30 a.m. to 2:00 p.m.

ADDRESSES: On Oct. 18, the RAC will meet at the John Wesley Powell River History Museum, 1765 E. Main Street, Green River, Utah 84525.

FOR FURTHER INFORMATION CONTACT: If you wish to attend the field tour, contact Lola Bird, Public Affairs Specialist, Bureau of Land Management, Utah State Office, 440 West 200 South, Suite 500, Salt Lake City, Utah 84101; phone (801) 539-4033; or, lbird@blm.gov no later than Tuesday, Oct. 11, 2016.

SUPPLEMENTARY INFORMATION: Agenda topics will include the San Rafael Desert Master Leasing Plan and sage-grouse plan grazing thresholds.

A half-hour public comment period will take place on Oct. 18 from 12:30-1:00 p.m., where the public may address the RAC. Written comments may also be sent to the BLM at the address listed in the FOR FURTHER INFORMATION CONTACT section of this notice.

The meeting is open to the public; however, transportation, lodging, and meals are the responsibility of the participating individuals.

Persons who use a telecommunications device for the deaf (TDD) may call the Federal Information Relay Service (FIRS) at 1-800-877-8339 to leave a message or question for the above individual. The FIRS is available 24 hours a day, seven days a week. Replies are provided during normal business hours.

Authority: 43 CFR 1784.4-1

Jenna Whitlock,
Acting State Director.

[FR Doc. 2016-22179 Filed 9-13-16; 8:45 am]

BILLING CODE 4310-DQ-P